Title 3—

The President

Proclamation 8161 of July 12, 2007

Parents' Day, 2007

By the President of the United States of America

A Proclamation

On Parents' Day, America honors our mothers and fathers for their extraordinary devotion and for the great sacrifices they make to provide a hopeful and promising future for their children.

The guidance and unconditional love of parents help create a nurturing environment so children can grow and reach their full potential. Parents work to impart to their children the strength and determination to follow their dreams and the courage to do what is right. They shape the character of their children by sharing their wisdom and setting a positive example. As role models, parents also instill the values and principles that help prepare children to be responsible adults and good citizens.

My Administration is committed to strengthening American families by supporting Federal, State, and faith-based and community programs that promote healthy marriages and responsible parenting. Parents are a child's first teachers, and we recognize their critical role in helping children do well in school. My Administration is committed to helping parents and schools ensure that every child has the best opportunity to learn and succeed.

On Parents' Day, we pay tribute to mothers and fathers and celebrate the special bonds of love between parents and their children. We also express our deep gratitude to parents who serve in the Armed Forces and those whose sons and daughters have answered the call to defend our country. Our Nation is grateful for their honorable service and for the sacrifices family members make as their loved ones work to advance the cause of freedom.

NOW, THEREFORE, I, GEORGE W. BUSH, President of the United States of America, by virtue of the authority vested in me by the Constitution and laws of the United States and consistent with Public Law 103-362, as amended, do hereby proclaim Sunday, July 22, 2007, as Parents' Day. I call upon citizens, private organizations, and governmental bodies at all levels to engage in activities and educational efforts that recognize, support, and honor parents, and I encourage American sons and daughters to convey their love, respect, and appreciation to their parents.

IN WITNESS WHEREOF, I have hereunto set my hand this twelfth day of July, in the year of our Lord two thousand seven, and of the Independence of the United States of America the two hundred and thirty-second.

[FR Doc. 07-3485

Filed 7-13-07; 11:07 am]

Billing code 3195-01-P